DEPARTMENT OF COMMERCE

Foreign-Trade Zones Board

[Order No. 1933]

Reorganization and Expansion of Foreign-Trade Zone 20 Under Alternative Site Framework Suffolk, Virginia

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Virginia Port Authority, grantee of Foreign-Trade Zone 20, submitted an application to the Board (FTZ Docket B-34-2013, docketed 04-18-2013, amended 10-02-2013) for authority to reorganize and expand under the ASF with a service area consisting of the Counties of Accomack (partial), Gloucester, Isle of Wight, James City, Mathews, Northampton, Southampton, Sussex, Surry and York, and the Cities of Chesapeake, Franklin, Hampton, Newport News, Norfolk, Poquoson, Portsmouth, Suffolk, Virginia Beach and Williamsburg, within and adjacent to the Norfolk-Newport News Customs and Border Protection port of entry, FTZ 20's existing Sites 9, 19, 21, 23, 24 and new Site 34 would be categorized as magnet sites, and Sites 2, 3, 22, 25, 32, 33 and new Site 35 would be categorized as usage-driven sites;

Whereas, notice inviting public comment was given in the Federal Register (78 FR 24157, April 24, 2013) and the application has been processed pursuant to the FTZ Act and the Board's regulations; and,

Whereas, the Board adopts the findings and recommendation of the examiner's report, and finds that the requirements of the FTZ Act and the Board's regulations are satisfied;

Now, therefore, the Board hereby orders:

The application, as amended, to reorganize and expand FTZ 20 under the ASF is approved, subject to the FTZ Act and the Board's regulations, including Section 400.13, to the Board's standard 2,000-acre activation limit for the zone, to a five-year ASF sunset provision for magnet sites that would terminate authority for Sites 9, 19, 21, 23, 24 and 34 if not activated by February 28, 2019, and to a three-year ASF sunset provision for usage-driven sites that would terminate authority for Sites 2, 3, 22, 25, 32, 33 and 35 if no foreign-status merchandise is admitted for a bona fide customs purpose by February 28, 2017.

Signed at Washington, DC, this 28th day of February 2014.
Paul Piquado,
Assistant Secretary of Commerce for Enforcement and Compliance, Alternate Chairman, Foreign-Trade Zones Board

[FR Doc. 2014-05534 Filed 3-12-14; 8:45 am]

BILLING CODE 3510-DS-P